DEPARTMENT OF TRANSPORTATION

Federal Highway Administration

Buy America Waiver Notification

AGENCY: Federal Highway Administration (FHWA), DOT.

ACTION: Notice.

SUMMARY: This notice provides information regarding the FHWA's finding that a Buy America waiver is appropriate for stainless steel clad reinforcing bars used for experimental purposes in a Federal-aid Bridge construction project; SR2 Kirkwood Highway over Pike Creek in Delaware.

DATES: The effective date of the waiver is April 14, 2009.

FOR FURTHER INFORMATION CONTACT: For questions about this notice, please contact Mr. Gerald Yakowenko, FHWA Office of Program Administration, (202) 366-1562, or via e-mail at gerald.yakowenko@dot.gov. For legal questions, please contact Mr. Michael Harkins, FHWA Office of the Chief Counsel, (202) 366-4928, or via e-mail at michael.harkins@dot.gov. Office hours for the FHWA are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application of such requirements would be inconsistent with the public interest or when satisfactory quality domestic steel and iron products are not sufficiently available. This notice provides information regarding the FHWA's finding that a Buy America waiver is appropriate for stainless steel clad reinforcing bars used for experimental purposes in a Federal-aid Bridge construction project administered by the Delaware Department of Transportation (DelDOT).

In accordance with Division K, section 130 of the “Consolidated Appropriations Act, 2008” (Pub. L. 110-161), the FHWA published a notice of intent to issue a waiver on its Web site for experimental use of stainless steel clad reinforcing bars for a Federal-aid Bridge project in Delaware (http://www.fhwa.dot.gov/construction/contracts/waivers.cfm?id=29) on February 19. The FHWA evaluated several comments received in response to the notice. Some commenters suggested that solid stainless rebar should be used and that stainless clad rebar may be more expensive than solid stainless rebar. Other commenters disagreed with this position and stated that additional experimental review is not required. The Delaware DOT's waiver request is to evaluate the stainless clad reinforcing bars, which have not previously been used in the State, along with two other types of corrosion resistant reinforcing steels under an experimental project. The use of this product in DelDOT's bridge project will enable the State to conduct its own evaluation of this product. Thus, the FHWA agrees with the Delaware DOT that it is in the public interest to waive the Buy America requirements for this experimental project; therefore, the FHWA concludes that a Buy America waiver is appropriate as provided by 23 CFR 635.410(c)(1).

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to the Delaware waiver page noted above.

(Authority: 23 U.S.C. 313; Pub. L. 110-161, 23 CFR 635.410)

Issued on April 7, 2009.
King W. Gee,
Associate Administrator for Infrastructure, Federal Highway Administration.

[FR Doc. E9-8334 Filed 4-10-09; 8:45 am]

BILLING CODE 4910-22-P